DEPARTMENT OF THE INTERIOR

Bureau of Reclamation

Agency Information Collection; Request for Extension of a Currently Approved Information Collection; Comment Request

AGENCY: Bureau of Reclamation, Interior.

ACTION: Notice of renewal of currently approved collection (OMB No. 1006-0015).

SUMMARY: In accordance with the Paperwork Reduction Act of 1995, this notice announces the intentions of the Bureau of Reclamation to seek extension of the information collection for OMB 1006-0015, Diversions, Return Flow, and Consumptive Use of Colorado River Water in the Lower Colorado River Basin. The current OMB approval expires on August 31, 2009.

DATES: Comments on this notice must be received by June 19, 2009.

ADDRESSES: To obtain copies of the information collection forms and to submit comments on this information collection contact: Nancy DiDonato (BCOO-4445), PO Box 61470, Boulder City, NV 89006. Comments may also be submitted by e-mail to ndidonato@usbr.gov.

FOR FURTHER INFORMATION CONTACT: Margot Selig, Team Leader, Water Contracts Team, Boulder Canyon Operations Office, Bureau of Reclamation, 702-293-8192.

SUPPLEMENTARY INFORMATION:

Title: Diversions, Return Flow, and Consumptive Use of Colorado River Water in the Lower Colorado River Basin.

OMB No.: OMB No. 1006-0015.

Abstract: Reclamation delivers Colorado River water to water users for diversion and beneficial consumptive use in the States of Arizona, California, and Nevada. The Consolidated Decree of the United States Supreme Court in the case of Arizona v. California, et al., entered March 27, 2006, (547 U.S. 150 (2006)) requires the Secretary of the Interior to prepare and maintain complete, detailed, and accurate records of diversions of water, return flow, and consumptive use and make these records available at least annually. This information is needed to ensure that a State or a water user within a State does not exceed its authorized use of Colorado River water. Water users are obligated by provisions in their water delivery contracts to provide Reclamation information on diversions and return flows. Reclamation determines the consumptive use by subtracting return flow from diversions or by other engineering means. Without the information collected, Reclamation could not comply with the order of the United States Supreme Court to prepare and maintain detailed and accurate records of diversions, return flow, and consumptive use.

Description of Respondents: The respondents will include the Lower Basin States (Arizona, California, and Nevada), local and tribal entities, water districts, and individuals that use Colorado River water.

Frequency: Monthly, annually, or otherwise as determined by the Secretary of the Interior.

Estimated Total Number of Respondents: 54.

Estimated Number of Responses per Respondent: 1 annually or 12 monthly.

Estimated Total Number of Annual Responses: 330.

Estimated Total Annual Burden Hours: 290.

Estimated Burden for Each Form:

Form No. | Estimated Number of respondents | Total responses per year | Estimated annual burden hours per form
LC-72 | 6 | 78 | 54
LC-72A | 8 | 20 | 30
LC-72B | 15 | 51 | 78
Custom Forms | 25 | 181 | 128

Comments:

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

We will summarize all comments received regarding this notice. We will publish that summary in the Federal Register when the information collection request is submitted to OMB for review and approval.

Before including your address, telephone number, e-mail address, or other personal identifying information in your comment, you should be aware that your entire comment—including your personal identifying information—may be made publicly available at any time. While you can ask us in your comment to withhold your personal identifying information from public review, we cannot guarantee that we will be able to do so.

Steven C. Hvinden,
Area Manager, Boulder Canyon Operations Office, Lower Colorado Region, Bureau of Reclamation.

[FR Doc. E9-8983 Filed 4-17-09; 8:45 am]

BILLING CODE 4310-MN-P